DEPARTMENT OF TRANSPORTATION

Federal Aviation Administration

Twenty-Third Meeting: Special Committee 214 (SC 214)

AGENCY: Federal Aviation Administration (FAA), U.S. Department of Transportation (DOT).

ACTION: Twenty-Third Meeting Notice of Special Committee 214.

SUMMARY: The FAA is issuing this notice to advise the public of the twenty-third meeting of the Special Committee 214.

DATES: The meeting will be held August 31st-September 4th from 9:00 a.m.-5:00 p.m.

ADDRESSES: The meeting will be held at RTCA Headquarters, 1150 18th Street NW., Suite 910, Washington, DC 20036, Tel: (202) 330-0663.

FOR FURTHER INFORMATION CONTACT: The RTCA Secretariat, 1150 18th Street NW., Suite 910, Washington, DC 20036, or by telephone at (202) 833-9339, fax at (202) 833-9434, or Web site at http://www.rtca.org or Sophie Bousquet, Program Director, RTCA, Inc., sbousquet@rtca.org, (202) 330-0663.

SUPPLEMENTARY INFORMATION: Pursuant to section 10(a)(2) of the Federal Advisory Committee Act (Pub. L. 92-463, 5 U.S.C., App.), notice is hereby given for a meeting of the Special Committee 214. The agenda will include the following:

Monday, August 31, 2015

1. Welcome/Introduction/Administrative Remarks

2. Approval of the Agenda of Plenary 23 and Minutes of Plenary 22

3. Coordination Activities with ICAO OPLINK

4. Status of B2 Rev A Standards, discussions on outstanding issues

5. Progress status of VDL2 standards

6. Review of Position Papers and Contributions

7. Approval of Sub-Group Meeting Objectives

Tuesday, September 1, 2015

1. Sub-Group Sessions

Wednesday, September 2, 2015

1. Sub-Group Sessions

Thursday, September 3, 2015

1. Sub-Group Report & Assignment of Action Items

2. RTCA FRAC and EUROCAE Open Consultation process overview

3. Agree action plan to close last outstanding comments

4. Confirm target date for publication of v1.D (version for FRAC/Open Consultation)

5. Establish and communicate schedule for FRAC/Open Consultation

6. Approval of Rev A of Baseline 2 documents for FRAC/Open Consultation

7. Approve dates and location of next Plenary Meeting—FRAC/Open Consultation Resolution

8. Any Other Business

9. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on July 7, 2015.
Latasha Robinson,
Management & Program Analyst, NextGen, Program Oversight and Administration, Federal Aviation Administration.

[FR Doc. 2015-16956 Filed 7-9-15; 8:45 am]

BILLING CODE 4910-13-P